FEDERAL COMMUNICATIONS COMMISSION

47 CFR Part 27

Miscellaneous Wireless Communications Services

CFR Correction

In Title 47 of the Code of Federal Regulations, Parts 20 to 39, revised as of October 1, 2013, on page 351, in § 27.50, the stars following paragraph (d)(1) are removed and paragraphs (d)(1)(A) and (B) and (d)(2)(A) and (B) are reinstated to read as follows:

§ 27.50 Power limits and duty cycle.

* * * * *

(d) * * *

(1) * * *

(A) an equivalent isotropically radiated power (EIRP) of 3280 watts when transmitting with an emission bandwidth of 1 MHz or less;

(B) an EIRP of 3280 watts/MHz when transmitting with an emission bandwidth greater than 1 MHz.

(2) * * *

(A) an equivalent isotropically radiated power (EIRP) of 1640 watts when transmitting with an emission bandwidth of 1 MHz or less;

(B) an EIRP of 1640 watts/MHz when transmitting with an emission bandwidth greater than 1 MHz.

* * * * *

[FR Doc. 2014-07200 Filed 3-28-14; 8:45 am]

BILLING CODE 1505-01-D